DEPARTMENT OF THE INTERIOR

Bureau of Land Management

[UT-920-08-1320-EL, UTU-85867]

Notice of Invitation to Participate in Coal Exploration License, Utah

AGENCY: Bureau of Land Management, Interior.

ACTION: Notice of Invitation to Participate in Coal Exploration License.

SUMMARY: Pursuant to section 2(b) of the Mineral Leasing Act of 1920, as amended by section 4 of the Federal Coal Leasing Amendments Act of 1976, 90 Stat. 1083, 30 U.S.C. 201(b), and to the regulations adopted as 43 CFR part 3410, all interested qualified parties, as provided in 43 CFR 3472.1, are hereby invited to participate with Ark Land Company on a pro rata cost sharing basis in its program for the exploration of coal deposits in certain Federal coal deposits owned by the United States of America in the following-described lands in Sevier County, Utah:

T. 21 S., R. 4 E., SLM, Utah

Sec. 1, Lots 1-3, E½SW¼, SE¼;

Sec. 11, E½E½;

Sec. 12, N½, SW¼, W½SE¼;

Sec. 13, W½NE¼, NW¼;

Sec. 14, N½, W½SW¼;

Sec. 15, E½E½;

Sec. 22, E½NE¼;

Sec. 23, W½NW¼.

Containing 2,095.80 acres.

All of the coal in the above-described land consists of unleased Federal coal within the Uinta-Southwestern Utah Known Coal Region. This coal exploration license will be issued by the Bureau of Land Management. This exploration program will obtain coal data to supplement data from adjacent coal development The exploration program is fully described and is being conducted pursuant to an exploration plan approved by the Bureau of Land Management (BLM). The plan may be modified to accommodate the legitimate exploration needs of persons seeking to participate.

ADDRESSES: Copies of the exploration plan and license are available for review during normal business hours (serialized under the number of UTU 85867) in the public room of the BLM State Office, 440 West 200 South, Suite 500, Salt Lake City, Utah. The written notice to participate in the exploration program should be sent to both the BLM, Utah State Office, P.O. Box 45155, Salt Lake City, Utah 84145, and to Mark Bunnell, Senior Geologist, Ark Land Company, c/o Canyon Fuel Co., LLC, Skyline Mines, HC35, Box 380, Helper, Utah 84526.

SUPPLEMENTARY INFORMATION: This notice of invitation to participate was published in The Richfield Reaper, once each week for two consecutive weeks beginning the fourth week of December, 2007 and in the Federal Register.

Any person seeking to participate in this exploration program must send written notice to both the BLM and Ark Land Company, as provided in the ADDRESSES section above, no later than thirty days after publication of this invitation in the Federal Register.

The foregoing is published in the Federal Register pursuant to 43 CFR 3410.2-1(c)(1).

Dated: February 15, 2008.
Kent Hoffman,
Deputy State Director, Lands and Minerals.

[FR Doc. E8-3322 Filed 2-21-08; 8:45 am]

BILLING CODE 4310-$$-P